DEPARTMENT OF HOUSING AND URBAN DEVELOPMENT

[Docket No. FR-5752-N-C-116]

30-Day Notice of Proposed Information Collection: Indian Community Development Block Grant

AGENCY: Office of the Assistant Secretary for Public and Indian Housing, PIH, HUD.

ACTION: Correction of comment due date.

SUMMARY: On January 7, 2015 at (80 FR 902) in the Federal Register, HUD published an information collection notice entitled “30-Day Notice of Proposed Information Collection: Indian Community Development Block Grant.” The purpose of the notice is to allow an additional 30 days of public comment. HUD inadvertently published the notice asking for comments to be submitted by March 9, 2015. This notice corrects the comment due date.

DATES: Comments Due Date: February 6, 2015.

FOR FURTHER INFORMATION CONTACT: Colette Pollard, Reports Management Officer, QDAM, Department of Housing and Urban Development, 451 7th Street SW., Washington, DC 20410; telephone 202-402-3400; email at Colette.Pollard@hud.gov. Persons with hearing or speech impairments may access this number via TTY by calling the Federal Information Relay Service at (800) 877-8339. Copies of available documents submitted to OMB may be obtained from Ms. Pollard.

Dated: January 15, 2015.
Colette Pollard,
Department Reports Management Officer, Office of the Chief Information Officer.

[FR Doc. 2015-01503 Filed 1-27-15; 8:45 am]

BILLING CODE 4210-67-P